NATIONAL AERONAUTICS AND SPACE ADMINISTRATION

[NOTICE 09-078]

Notice of Intent To Grant Partially Exclusive License

AGENCY: National Aeronautics and Space Administration.

ACTION: Notice of intent to grant a partially exclusive license.

SUMMARY: This notice is issued in accordance with 35 U.S.C. 209(c)(1) and 37 CFR 404.7(a)(1)(i). NASA hereby gives notice of its intent to grant a worldwide partially exclusive license to practice the inventions described and claimed in NASA Case Numbers LAR-16571-2 entitled “Magnetic Field Response Sensor for Conductive Media,” U.S. Patent Application Number 11/421,886; LAR-16571-3 entitled “Magnetic Field Response Sensor for Conductive Media,” U.S. Patent Application Number 12/533,520; LAR-16974-1 entitled “Flexible Framework for Capacitive Sensing,” U.S. Patent Number 7,047,807 B2; LAR-17116-1 entitled “System and Method for Wirelessly Determining Fluid Volume,” U.S. Patent Number 7,506,541 B2; LAR-17155-1 entitled “Wireless Fluid Level Measuring System,” U.S. Patent Number 7,255,004 B2; LAR-17294-1 entitled “Wireless Sensing System Using Open-Circuit, Electrically-Conductive Spiral-Trace Sensor,” U.S. Patent Application Number 11/671,089; LAR-17480-1 entitled “Method of Calibrating a Fluid-Level Measurement System,” U.S. Patent Application Number 11/930,222; LAR-17480-1-PCT entitled “Method of Calibrating a Fluid-Level Measurement System,” PCT Patent Application Number PCT/US08/58332; LAR-17488-1 entitled “Wireless Sensing System for Non-Invasive Monitoring of Attributes of Contents in a Container,” U.S. Patent Application Number 12/015,626; and LAR-17488-1-PCT entitled “Wireless Sensing System for Non-Invasive Monitoring of Attributes of Contents in a Container,” PCT Patent Application Number PCT/US08/51258 to Kelvin International Corporation having its principal place of business in Newport News, Virginia. The field of use may be limited to cryogenic liquid product applications including flow, level, and fluid measurement applications. The patent rights have been assigned to the United States of America as represented by the Administrator of the National Aeronautics and Space Administration. The prospective partially exclusive license will comply with the terms and conditions of 35 U.S.C. 209 and 37 CFR 404.7.

DATES: The prospective partially exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license.

Objections submitted in response to this notice will not be made available to the public for inspection and, to the extent permitted by law, will not be released under the Freedom of Information Act, 5 U.S.C. 552.

ADDRESSES: Objections relating to the prospective license may be submitted to Patent Counsel, Office of Chief Counsel, NASA Langley Research Center, MS 141, Hampton, VA 23681; (757) 864-9260 (phone), (757) 864-9190 (fax).

FOR FURTHER INFORMATION CONTACT: Robin W. Edwards, Patent Attorney, Office of Chief Counsel, NASA Langley Research Center, MS 141, Hampton, VA 23681; (757) 864-3230; Fax: (757) 864-9190. Information about other NASA inventions available for licensing can be found online at http://techtracs.nasa.gov/.

Dated: September 2, 2009.
Richard W. Sherman,
Deputy General Counsel.

[FR Doc. E9-21666 Filed 9-8-09; 8:45 am]

BILLING CODE 7510-13-P